DEPARTMENT OF COMMERCE

International Trade Administration

[A-122-853, A-570-937]

Citric Acid and Certain Citrate Salts from Canada and the People's Republic of China: Postponement of Preliminary Determinations of Antidumping Duty Investigations

AGENCY: Import Administration, International Trade Administration, Department of Commerce.

EFFECTIVE DATE: August 29, 2008.

FOR FURTHER INFORMATION CONTACT: Terre Keaton Stefanova (Canada) or Marin Weaver (the People's Republic of China), AD/CVD Operations, Offices 2 and 8, Import Administration, International Trade Administration, U.S. Department of Commerce, 14th Street and Constitution Avenue, NW, Washington, DC 20230; telephone: (202) 482-1280 or (202) 482-2336, respectively.

SUPPLEMENTARY INFORMATION:

Postponement of Preliminary Determinations

On May 5, 2008, the Department of Commerce (the Department) initiated the antidumping investigations of Citric Acid and Certain Citrate Salts from Canada and the People's Republic of China. See Citric Acid and Certain Citrate Salts from Canada and the People's Republic of China: Initiation of Antidumping Duty Investigations, 73 FR 27492 (May 13, 2008).

The notice of initiation stated that unless postponed the Department would issue the preliminary determinations for these investigations no later than 140 days after the date of issuance of the initiation, in accordance with section 733(b)(1)(A) of the Tariff Act of 1930, as amended (the Act). The preliminary determinations are currently due no later than September 21, 2008.

On August 19, 2008, the petitioners, Archer Daniels Midland Company, Cargill, Incorporated, and Tate & Lyle Americas, Inc., made a timely request pursuant to section 733(c)(1)(A) of the Act and 19 CFR 351.205(e) for a 50-day postponement of the preliminary determinations. The petitioners requested postponement of the preliminary determinations in order to ensure that the Department has ample time to thoroughly analyze the novel and complex issues involved in these investigations.

Because there are no compelling reasons to deny the request, the Department is postponing the deadline for the preliminary determinations pursuant to section 733(c)(1)(A) of the Act to November 12, 2008,¹ the next business day after 190 days from the date of initiation. The deadline for the final determinations will continue to be 75 days after the date of the preliminary determinations, unless postponed.

¹ November 11, 2008, is a federal holiday.

This notice is issued and published pursuant to sections 733(c)(2) of the Act and 19 CFR 351.205(f)(1).

Dated: August 25, 2008.
Stephen J. Claeys,
Acting Assistant Secretary for Import Administration.

[FR Doc. E8-20153 Filed 8-28-08; 8:45 am]

BILLING CODE 3510-DS-S